COMMITTEE FOR THE IMPLEMENTATION OF TEXTILE AGREEMENTS

Reduction of Charges for Certain Cotton Textile Products Produced or Manufactured in the Republic of Turkey

November 16, 2001.

AGENCY: Committee for the Implementation of Textile Agreements (CITA).

ACTION: Issuing a directive to the Commissioner of Customs reducing charges.

EFFECTIVE DATE: November 21, 2001.

FOR FURTHER INFORMATION CONTACT: Roy Unger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

On June 26, 2001, in response to a request from the Government of Turkey, CITA published an adjusted limit for Category 350 from Turkey. As a result of administrative error, the adjusted limit was incorrect, and the correct limit was published on September 10, 2001. During the interim period, the Government of Turkey issued visas, and exporters and importer engaged in commercial transactions, in reliance on the limit published on June 26. Since June 26, CITA has published other directives which provided additional quota to Turkey in this category. As parties relied on the amount published on June 26, CITA is instructing U.S. Customs to reduce the charges applied to the limit established in the directive dated October 27, 2000, for goods exported in 2001, for Category 350 by 9,533 dozens, the amount that CITA has determined would permit Turkey to ship the full amount published on June 26.

D. Michael Hutchinson,
Acting Chairman, Committee for the Implementation of Textile Agreements.

Committee for the Implementation of Textile Agreements

November 16, 2001.

Commissioner of Customs,

Department of the Treasury, Washington, DC 20229.

Pursuant to a CITA decision to take into account the impact of an administrative error, effective on November 21, 2001, you are directed to reduce the charges applied to the limit established in the directive dated October 27, 2000, for goods exported in 2001, for Category 350 by 9,533 dozens.

The Committee for the Implementation of Textile Agreements has determined that this action falls within the foreign affairs exception of the rulemaking provisions of 5 U.S.C. 553(a)(1).

Sincerely,

D. Michael Hutchinson,

Acting Chairman, Committee for the Implementation of Textile Agreements.

[FR Doc. 01-29109 Filed 11-16-01; 2:01 pm]

BILLING CODE 3510-DR-S